DEPARTMENT OF ENERGY

Federal Energy Regulatory Commission

Combined Notice of Filings #2

Take notice that the Commission received the following electric corporate filings:

Docket Numbers: EC15-16-000.

Applicants: Granite Ridge Energy, LLC, Granite Ridge Holding, LLC, Merrill Lynch Credit Products, LLC.

Description: Application for Authorization under Section 203 of the FPA and Request for Waivers and Expedited Action of Granite Ridge Energy, LLC, et. al.

Filed Date: 10/22/14.

Accession Number: 20141022-5148.

Comments Due: 5 p.m. ET 11/12/14.

Take notice that the Commission received the following electric rate filings:

Docket Numbers: ER10-2718-018; ER10-2719-018.

Applicants: Cogen Technologies Linden Venture, L.P., East Coast Power Linden Holding, L.L.C.

Description: Supplement to September 2, 2014 Notice of Non-Material Change in Status of the Linden MBR Sellers.

Filed Date: 10/22/14.

Accession Number: 20141022-5092.

Comments Due: 5 p.m. ET 11/12/14.

Docket Numbers: ER14-2720-001.

Applicants: Limon Wind, LLC.

Description: Tariff Amendment per 35.17(b): Limon Wind, LLC Amendment to the Amended and Restated SFA to be effective 8/28/2014.

Filed Date: 10/22/14.

Accession Number: 20141022-5048.

Comments Due: 5 p.m. ET 11/12/14.

Docket Numbers: ER14-2986-000.

Applicants: El Dorado Irrigation District.

Description: Notification of Cancellation of Market Based Rate Authority of El Dorado Irrigation District.

Filed Date: 5/21/14.

Accession Number: 20140521-5184.

Comments Due: 5 p.m. ET 11/12/14.

Docket Numbers: ER15-152-000.

Applicants: PJM Interconnection, L.L.C.

Description: Compliance filing per 35: Notice of Cancellation of Service Agreement No. 2543; Queue No. V4-076 to be effective N/A.

Filed Date: 10/22/14.

Accession Number: 20141022-5080.

Comments Due: 5 p.m. ET 11/12/14.

Docket Numbers: ER15-153-000.

Applicants: Electric Energy, Inc.

Description: § 205(d) rate filing per 35.13(a)(2)(iii): Revised and Restated Cost-Based Power Contract to be effective 11/1/2014.

Filed Date: 10/22/14.

Accession Number: 20141022-5090.

Comments Due: 5 p.m. ET 11/12/14.

Docket Numbers: ER15-154-000.

Applicants: PJM Interconnection, L.L.C.

Description: Tariff Withdrawal per 35.15: Notice of Cancellation of Service Agreement No. 2715; Queue No. V4-077 to be effective 10/24/2014.

Filed Date: 10/22/14.

Accession Number: 20141022-5094.

Comments Due: 5 p.m. ET 11/12/14.

Docket Numbers: ER15-155-000.

Applicants: Birchwood Power Partners, L.P.

Description: Compliance filing per 35: Proposed revisions to its market-based rate tariff to be effective 10/23/2014.

Filed Date: 10/22/14.

Accession Number: 20141022-5135.

Comments Due: 5 p.m. ET 11/12/14.

Docket Numbers: ER15-156-000.

Applicants: Cogen Technologies Linden Venture, L.P.

Description: Compliance filing per 35: Proposed revisions to its market-based rate tariff to be effective 10/23/2014.

Filed Date: 10/22/14.

Accession Number: 20141022-5141.

Comments Due: 5 p.m. ET 11/12/14.

Docket Numbers: ER15-157-000.

Applicants: East Coast Power Linden Holding, L.L.C.

Description: Compliance filing per 35: Proposed revisions to its market-based rate tariff to be effective 10/23/2014.

Filed Date: 10/22/14.

Accession Number: 20141022-5145.

Comments Due: 5 p.m. ET 11/12/14.

Docket Numbers: ER15-158-000.

Applicants: Southwest Power Pool, Inc.

Description: § 205(d) rate filing per 35.13(a)(2)(iii): 1765R11 KCP&L-GMO NITSA and NOA to be effective 8/1/2014.

Filed Date: 10/22/14.

Accession Number: 20141022-5149.

Comments Due: 5 p.m. ET 11/12/14.

Docket Numbers: ER15-159-000.

Applicants: Kentucky Power Company.

Description: § 205(d) rate filing per 35.13(a)(2)(iii): Mitchell Operating Agreement to be effective 12/31/2014.

Filed Date: 10/22/14.

Accession Number: 20141022-5150.

Comments Due: 5 p.m. ET 11/12/14.

Docket Numbers: ER15-160-000.

Applicants: Wheeling Power Company.

Description: § 205(d) rate filing per 35.13(a)(2)(iii): Mitchell Operating Agreement Concurrence to be effective 12/31/2014.

Filed Date: 10/22/14.

Accession Number: 20141022-5151.

Comments Due: 5 p.m. ET 11/12/14.

Docket Numbers: ER15-161-000.

Applicants: Interstate Power and Light Company.

Description: § 205(d) rate filing per 35.13(a)(2)(iii): IPL-AECI-NEP BA Agreement to be effective 10/22/2014.

Filed Date: 10/22/14.

Accession Number: 20141022-5156.

Comments Due: 5 p.m. ET 11/12/14.

Docket Numbers: ER15-162-000.

Applicants: Southwest Power Pool, Inc.

Description: § 205(d) rate filing per 35.13(a)(2)(iii): 2881R1 City of Chanute, KS NITSA NOA to be effective 8/1/2014.

Filed Date: 10/22/14.

Accession Number: 20141022-5161.

Comments Due: 5 p.m. ET 11/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2014.
Nathaniel J. Davis, Sr.,
Deputy Secretary.

[FR Doc. 2014-25712 Filed 10-28-14; 8:45 am]

BILLING CODE 6717-01-P